NUCLEAR REGULATORY COMMISSION

10 CFR Part 50

[NRC-2020-0253]

Advanced Manufacturing Technologies Subtask 2A

AGENCY: Nuclear Regulatory Commission.

ACTION: Final report; issuance.

SUMMARY: The U.S. Nuclear Regulatory Commission (NRC) is issuing the final document entitled, “Implementation of Quality Assurance Criteria and 10 CFR 50.59 for Nuclear Power Plant Components Produced Using Advanced Manufacturing Technologies.”

DATES: This final report is available on July 23, 2021.

ADDRESSES: Please refer to Docket ID NRC-2020-0253 when contacting the NRC about the availability of information regarding this document. You may obtain publicly available information related to this document using any of the following methods:

• Federal Rulemaking Website: Go to https://www.regulations.gov and search for Docket ID NRC-2020-0253. Address questions about Docket IDs in Regulations.gov to Stacy Schumann; telephone: 301-415-0624; email: Stacy.Schumann@nrc.gov. For technical questions, contact the individual listed in the FOR FURTHER INFORMATION CONTACT section of this document.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, 301-415-4737, or by email to pdr.resource@nrc.gov. The final document, “Implementation of Quality Assurance Criteria and 10 CFR 50.59 for Nuclear Power Plant Components Produced Using Advanced Manufacturing Technologies,” is available in ADAMS under Accession No. ML21155A043.

• Attention: The PDR, where you may examine and order copies of public documents, is currently closed. You may submit your request to the PDR via email at pdr.resource@nrc.gov or call 1-800-397-4209 or 301-415-4737, between 8:00 a.m. and 4:00 p.m. (ET), Monday through Friday, except Federal holidays.

FOR FURTHER INFORMATION CONTACT: Isaac Anchondo-Lopez, Office of Nuclear Reactor Regulation, U.S. Nuclear Regulatory Commission, Washington, DC 20555-0001; telephone: 817-200-1152; email: Isaac.Anchondo-Lopez@nrc.gov.

SUPPLEMENTARY INFORMATION:

I. Background

The NRC considers Advanced Manufacturing Technologies (AMTs) to consist of material processing and component fabrication methods that have not been traditionally used in the U.S. nuclear industry and have not yet received NRC approval through NRC-endorsed codes and standards or the approval of an industry submittal. There are several regulatory paths available to a licensee for utilizing an AMT in a nuclear application, including: (1) Development of a code or standard that can be incorporated by reference in § 50.55a of chapter I of title 10 of the Code of Federal Regulations (10 CFR); (2) selection of an unregulated in service application; (3) submission of generic technical reports or plant-specific submittals for NRC approval; or (4) implementation of the 10 CFR 50.59, “Changes, tests and experiments,” 10 CFR 70.72, “Facility changes and change process,” or 10 CFR 72.48, “Changes, tests, and experiments” processes. The document addresses the processes, consistent with the QA requirements in appendix B to 10 CFR part 50 and in accordance with 10 CFR 50.59, in order to support the staff's performance of potential inspections of a licensee's implementation of these requirements for AMT-fabricated components.

II. Congressional Review Act

This action is a rule as defined in the Congressional Review Act (5 U.S.C. 801-808). However, the Office of Management and Budget has not found it to be a major rule as defined in the Congressional Review Act.

III. Implementation

The staff has added Appendix A, “Disposition of Public Comments,” to the final document to inform the reader how public comments were dispositioned. The Division of New and Renewed Licenses of the Office of Nuclear Reactor Regulation will transmit the final version of the document (ADAMS Accession Number ML21155A043) to each of the NRC Regional Offices via a memo to be issued concurrently with publication of this Federal Register notification.

Dated: July 19, 2021.
For the Nuclear Regulatory Commission.
Anna H. Bradford,
Director, Division of New and Renewed Licenses, Office of Nuclear Reactor Regulation.

[FR Doc. 2021-15658 Filed 7-22-21; 8:45 am]

BILLING CODE 7590-01-P